DEPARTMENT OF THE INTERIOR

Bureau of Land Management

[20X LLUTW01000.54400000.EU0000.LVCLJ20J0800; UTU-94504]

Notice of Realty Action and Notice of Segregation: Legislated Conveyance of Public Lands to the City of Hyde Park in Cache County, Utah

AGENCY: Bureau of Land Management, Interior.

ACTION: Notice of realty action and notice of segregation.

SUMMARY: The Bureau of Land Management (BLM) proposes to convey an approximately 80-acre parcel of public lands located in Cache County, Utah, to the City of Hyde Park, pursuant to Section 1013 of the John D. Dingell, Jr. Conservation, Management, and Recreation Act of 2019.

DATES: The BLM will not convey the parcel until at least July 20, 2020.

ADDRESSES: Salt Lake Field Office, Attention: Hyde Park Conveyance, 2370 South Decker Lake Boulevard, Salt Lake City, Utah 84119.

FOR FURTHER INFORMATION CONTACT: Matt Preston, Field Manager (801) 977-4300, utslmail@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Section 1013 of Public Law 116-9 directed the BLM to convey, without consideration, to the City of Hyde Park the following described public lands to be managed for public recreation or other public purposes consistent with uses allowed under the Act of June 14, 1926 (commonly known as the “Recreation and Public Purposes Act”):

Salt Lake Meridian, Utah

T. 12 N., R. 1 E.,

Sec. 1, S½ NE¼.

The area described contains approximately 80 acres.

The legislatively-required disposal of this parcel, including both the surface and the mineral estate, is also consistent with Section 209 of the Federal Land Policy and Management Act (FLPMA), as amended, which allows the BLM to convey the mineral estate along with a parcel of land when, as here, the BLM has determined that there are no known mineral values in the land.

Conveyance of the identified public lands will be subject to the Canal Act of 1890 (43 U.S.C. 945), valid and existing rights and encumbrances of record, including but not limited to, rights-of-way for roads and public utilities.

Upon publication of this Notice in the Federal Register, the above-described public lands will be segregated from appropriation under the public land laws, including the mining laws, except for the sale and conveyance provisions of the FLPMA. The temporary segregation will terminate upon: (1) Issuance of a conveyance document, (2) publication in the Federal Register of a termination of the segregation, or (3) on May 21, 2022, unless extended by the BLM Utah State Director in accordance with 43 CFR 2711.1-2(d). Upon publication of this Notice in the Federal Register, the BLM is no longer accepting land use applications affecting the above-described public lands, except applications for the amendment of previously-filed rights-of-way applications or existing authorizations in accordance with 43 CFR 2807.15 and 43 CFR 2886.15.

After publication of this Notice in the Federal Register, the BLM will publish this Notice once each week for three consecutive weeks in a newspaper of general circulation in the general vicinity of the above-described public lands. As Congress has directed the BLM to convey this parcel to the City of Hyde Park, the BLM is not inviting comments on this realty action.

Authority: Public Law 116-9, Section 1013, 43 U.S.C. 1713, and 43 U.S.C. 1719.

Anita Bilbao,
Acting State Director.

[FR Doc. 2020-10887 Filed 5-20-20; 8:45 am]

BILLING CODE 4310-DQ-P